OFFICE OF THE UNITED STATES TRADE REPRESENTATIVE

Implementation of the Third Round of Accelerated Tariff Eliminations Under Provisions of the North American Free Trade Agreement

AGENCY: Office of the United States Trade Representative.

ACTION: Notification of articles proposed for accelerated tariff elimination under the North American Free Trade Agreement.

SUMMARY: Section 201(b) of the North American Free Trade Agreement Implementation Act (“the Act”) (19 U.S.C. 3331(b)) grants the President, subject to the consultation and layover requirements of section 103(a) of the Act (19 U.S.C. 3313(a)), the authority to proclaim any accelerated schedule for duty elimination that may be agreed to by the United States, Mexico and Canada under Article 302(3) of the North American Free Trade Agreement (“the NAFTA”). This notice is intended to inform the public of the list of products with respect to which the United States has provisionally agreed to accelerate the elimination of duties as a result of the third round of consultations with Mexico and Canada.

FOR FURTHER INFORMATION CONTACT: Kent Shigetomi, Director, Mexico and NAFTA Affairs, Office of Western Hemisphere Affairs, Office of the United States Trade Representative, Room 523, 600 17th Street, NW, Washington, DC, 20508; telephone: (202) 395-3412; fax: (202) 395-9517. The list of products with respect to which the United States has provisionally agreed to accelerate tariff elimination, as well as the lists for Mexico can be obtained from the USTR Internet Web Page, at www.ustr.gov under [World Regions/Western Hemisphere/North American Free Trade Agreement/NAFTA Reports and Publications].

SUPPLEMENTARY INFORMATION: Article 302(3) of the NAFTA provides that the Parties may consider and agree to accelerate the elimination of customs duties set out in their schedules. Pursuant to this provision, on May 27, 1999, the Office of the U.S. Trade Representative (“USTR”) published a Federal Register notice (64 FR 28857) soliciting petitions from interested persons regarding products for which accelerated tariff elimination would be appropriate. For trade between the United States and Canada, all duties subject to tariff reductions were eliminated on January 1, 1998. Therefore, this acceleration round has resulted in two parallel agreements, one between the United States and Mexico and another between Mexico and Canada.

Section 201(b) of the Act authorizes the President to proclaim such modifications in NAFTA duty treatment as the President determines to be necessary or appropriate to maintain the general level of reciprocal and mutually advantageous concessions provided in the NAFTA, subject to the consultation and layover requirements of section 103(a) of the Act. Pursuant to section 103(a), a report has been submitted to the House Ways and Means and Senate Finance Committees that sets forth the proposed action to be proclaimed, the reasons therefore, and the advice obtained from the U.S. International Trade Commission (“USITC”) and appropriate advisory committees. After expiration of the 60-day consultation and layover period, the President may proclaim the proposed changes in NAFTA duty treatment. In developing the list of products proposed for tariff acceleration, USTR considered the advice of the USITC and consulted with the appropriate private sector trade advisory groups. As was the practice under the prior NAFTA and United States-Canada Free Trade Agreement tariff acceleration processes, the United States did not agree to provide accelerated tariff elimination for any products with respect to which the domestic industry opposed tariff elimination. The United States has agreed to accelerated tariff elimination, effective January 1, 2001, on the products listed in the Annex to this notice. These products currently are dutiable when entered from Mexico under the NAFTA. Each of these products was considered during the second round of tariff acceleration discussions, but no agreement was reached at that time. However, the Governments agreed to continue appropriate domestic procedures with the goal of reaching agreement at a later date (63 FR 32036). Such agreements have now been reached on the products listed.

Peter Allgeier,
Associate U.S. Trade Representative for the Western Hemisphere.

List of HTS Subheadings for Which the United States Has Provisionally Agreed To Accelerate Elimination of Duties for NAFTA Qualifying Goods of Mexico
2905.17.00 | 6402.99.18 | 6403.51.90 | 6403.99.40
2921.30.10 | 6403.19.10 | 6403.59.30 | 6403.99.60
6402.19.05 | 6403.19.30 | 6403.59.60 | 6403.99.75
6402.30.30 | 6403.19.50 | 6403.59.90 | 6403.99.90
6402.91.40 | 6403.40.30 | 6403.91.30 | 6405.10.00
6402.99.05 | 6403.40.60 | 6403.91.60 | 6405.20.30
6402.99.10 | 6403.51.30 | 6403.91.90 | 6405.20.90
| 6403.51.60 | 6403.99.20 | 6405.90.90

[FR Doc. 00-30138 Filed 11-24-00; 8:45 am]

BILLING CODE 3901-01-P